ENVIRONMENTAL PROTECTION AGENCY

[EPA-HQ-OW-2020-0017; FRL-11228-01-OW]

Agency Information Collection Activities; Submission to the Office of Management and Budget for Review and Approval; Revision to the Information Collection Request for the 2020 Drinking Water Infrastructure Needs Survey and Assessment (DWINSA)

AGENCY: Environmental Protection Agency (EPA).

ACTION: Notice.

SUMMARY: The Environmental Protection Agency (EPA) has submitted an information collection request (ICR), “Revision to the Information Collection Request for the 2020 Drinking Water Infrastructure Needs Survey and Assessment (DWINSA)” (EPA ICR Number 2616.02; OMB Control Number 2040-0302) to the Office of Management and Budget (OMB) for review and approval in accordance with the Paperwork Reduction Act. This is a request for emergency approval of a revision to the currently approved collection, allowing the Agency to conduct a one-time follow-up to the lead service line (LSL) questionnaire of the 2020 DWINSA. A fuller description of the proposed revision is given below, including its estimated burden and cost to the public.

FOR FURTHER INFORMATION CONTACT: John Towe, Office of Water, Office of Ground Water and Drinking Water, Environmental Protection Agency; telephone number: 202-564-2298; email address: towe.john@epa.gov.

SUPPLEMENTARY INFORMATION: This is a proposed revision of the ICR, which is currently approved through December 31, 2023. An agency may not conduct or sponsor and a person is not required to respond to a collection of information unless it displays a currently valid OMB control number.

Abstract: Pursuant to section 3507(j) of the Paperwork Reduction Act (PRA) (44 U.S.C. 3501 et seq.), as implemented in the Office of Management and Budget (OMB) regulations at 5 CFR 1320.13, EPA is requesting emergency processing of a proposed information collection revision.

The purpose of this information collection revision is to better identify the presence of LSL in States across the country. EPA's Office of Ground Water and Drinking Water already collected data to comply with sections 1452(h) and (i)(4) of the Safe Drinking Water Act (42 U.S.C. 300j-12) and the America's Water Infrastructure Act (AWIA) of 2018. This revised data collection effort will only include updates to the lead service line (LSL) counts of the 2020 DWINSA. For the LSL count update, EPA will collect and evaluate the number of LSL for water systems that are in all 50 States, the U.S. territories (Guam, U.S. Virgin Islands, Northern Mariana Islands, and American Samoa), Puerto Rico, and the District of Columbia. EPA will use an abbreviated version of the original DWINSA 2020 LSL questionnaire to collect LSL counts from previously surveyed water systems. Participation in the one-time update is voluntary.

Service line information is rapidly developing as States and water systems develop inventories required under the Lead and Copper Rule Revisions. This update of the LSL questionnaire allows water systems and States that provided incomplete submissions to the original lead service line questionnaire or are still developing their LSL inventories to provide additional information to the data provided in 2021. This will result in a Bipartisan Infrastructure Law (BIL) Lead Service Line Replacement (LSLR) allotment that reflects a more current understanding of each State's needs. As mandated by section 1452(a)(1)(D)(ii) of the Safe Drinking Water Act, EPA intends for the update to impact the LSLR allotments starting in FY 2024 (i.e., 3rd year of BIL funding). In order to complete data collection within this timeframe, the service line count update must be conducted as an emergency revision to the original ICR.

Form Numbers: None.

Respondents/affected entities: The respondents for the LSL count update to the 2020 Drinking Water Infrastructure Needs Survey and Assessment are CWSs, NPNCWSs, and State agencies.

Respondent's obligation to respond: Voluntary.

Estimated number of respondents: 3,969 (total).

Frequency of response: One time.

Total estimated burden: 3,118.8 hours (per year). Burden is defined at 5 CFR 1320.03(b)

Total estimated cost: $194,265.4 (per year), which includes $0 annualized capital or operation & maintenance costs.

Changes in the estimates: There is an increase of 3,118.8 hours in the total estimated respondent burden compared with the ICR currently approved by OMB. This increase is a result of the Agency conducting a one-time follow-up to the original lead service line (LSL) questionnaire of the 2020 DWINSA in order to help ensure Lead Service Line Replacement (LSLR) allotments made from the Bipartisan Infrastructure Law (BIL) more accurately reflect each State's needs.

Jennifer McLain,
Director, Office of Ground Water and Drinking Water.

[FR Doc. 2023-15683 Filed 7-24-23; 8:45 am]

BILLING CODE 6560-50-P